DEPARTMENT OF COMMERCE

International Trade Administration

[A-821-802]

Agreement Suspending the Antidumping Investigation on Uranium From the Russian Federation: Rescission of 2017-2018 Administrative Review

AGENCY: Enforcement and Compliance, International Trade Administration, Department of Commerce.

SUMMARY: The U.S. Department of Commerce (Commerce) is rescinding an administrative review of the Agreement Suspending the Antidumping Investigation on Uranium from the Russian Federation (Agreement) for the period of review (POR) from October 1, 2017 through September 30, 2018. Commerce finalized an amendment to the Agreement, rendering the administrative review of the pre-existing Agreement moot.

DATES: Applicable October 5, 2020.

FOR FURTHER INFORMATION CONTACT: Sally C. Gannon or Jill Buckles, Bilateral Agreements Unit, Enforcement and Compliance, International Trade Administration, U.S. Department of Commerce, 1401 Constitution Avenue NW, Washington, DC 20230; telephone: (202) 482-0162 or (202) 482-6230, respectively.

SUPPLEMENTARY INFORMATION:

Background

On October 16, 1992, Commerce signed an agreement with the Russian Federation's Ministry for Atomic Energy (MINATOM), the predecessor to the State Atomic Energy Corporation Rosatom (ROSATOM), under section 734(l) of the Tariff Act of 1930, as amended (the Act), suspending the antidumping duty investigation on uranium from the Russian Federation.¹ The Agreement was amended five times from 1994 to 2008.² On February 22, 2019, Commerce formally opened consultations with ROSATOM with respect to a possible sixth amendment to extend the Agreement's term.³

¹ See Antidumping; Uranium from Kazakhstan, Kyrgyzstan, Russia, Tajikistan, Ukraine, and Uzbekistan; Suspension of Investigations and Amendment of Preliminary Determinations, 57 FR 49220, 49235 (October 30, 1992).

² See Amendment to Agreement Suspending the Antidumping Investigation on Uranium from the Russian Federation, 59 FR 15373 (April 1, 1994); Amendments to the Agreement Suspending the Antidumping Investigation on Uranium from the Russian Federation, 61 FR 56665 (November 4, 1996); Amendment to Agreement Suspending the Antidumping Investigation on Uranium from the Russian Federation, 62 FR 37879 (July 15, 1997); and Amendment to the Agreement Suspending the Antidumping Investigation on Uranium from the Russian Federation, 73 FR 7705 (February 11, 2008).

³ See Letter to ROSATOM from P. Lee Smith, Deputy Assistant Secretary for Policy & Negotiations, “Consultations on the Agreement Suspending the Antidumping Investigation on Uranium from the Russian Federation,” dated February 22, 2019.

On October 1, 2018, Commerce notified interested parties of the opportunity to request an administrative review of the Agreement.⁴ On October 11, 2018, domestic interested party Louisiana Energy Services LLC (LES) submitted a request for an administrative review of the Agreement.⁵ On December 11, 2018, Commerce published in the Federal Register a notice initiating an administrative review of the Agreement for the POR October 1, 2017 through September 30, 2018.⁶ On December 18, 2019, Commerce published in the Federal Register preliminary results of this administrative review and the postponement of the final results in accordance with section 751(a)(3)(A) of the Act and 19 CFR 351.214(h)(2).⁷ On June 17, 2020, Commerce issued post-preliminary results in this review.⁸

⁴ See Antidumping or Countervailing Duty Order, Finding, or Suspended Investigation; Opportunity To Request Administrative Review, 83 FR 49358 (October 1, 2018).

⁵ See Letter from LES, “Uranium from Russia: Request for Administrative Review,” dated October 11, 2019.

⁶ See Initiation of Antidumping and Countervailing Duty Administrative Reviews, 83 FR 63615 (December 11, 2018).

⁷ See Agreement Suspending the Antidumping Investigation on Uranium From the Russian Federation: Preliminary Results of 2017-2018 Administrative Review and Postponement of Final Results, 84 FR 69357 (December 18, 2019).

⁸ See Memorandum to Jeffrey I. Kessler, Assistant Secretary for Enforcement and compliance, from Joseph A. Laroski Jr., Deputy Assistant Secretary for Policy and Negotiations, “Post-Preliminary Analysis Memorandum in the 2017-2018 Administrative Review of the Agreement Suspending the Antidumping Investigation on Uranium from the Russian Federation,” dated June 17, 2020.

On October 5, 2020, Commerce and ROSATOM signed a final amendment to the Agreement.⁹ Commerce will also issue its final statutory memorandum and memorandum addressing comments regarding the amendment which provide detailed explanations regarding how the amended agreement meets its statutory requirements and how Commerce responds to additional comments from parties on the amendment.

⁹ See Commerce Memorandum, “Placing the 2020 Amendment to the Agreement Suspending the Antidumping Investigation on Uranium from the Russian Federation on the Record,” dated October 5, 2020.

Rescission of the Administrative Review

Because Commerce has finalized a new amendment revising the terms and conditions of the Agreement, the administrative review of the pre-existing Agreement for the October 1, 2017 through September 30, 2018 POR is now moot. The review pertains to a version of the Agreement that no longer exists. Accordingly, we are hereby rescinding this review.

Notification to Interested Parties

This notice is issued and published in accordance with sections 751(a)(1) and 777(i)(1) of the Act and 19 CFR 351.213(d)(4).

Dated: October 5, 2020.
Jeffrey I. Kessler,
Assistant Secretary for Enforcement and Compliance.

[FR Doc. 2020-22432 Filed 10-8-20; 8:45 am]

BILLING CODE 3510-DS-P